DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA). The purpose of this notice is to announce publicly the environmental decisions by FTA on the subject project and to activate the limitation on any claims that may challenge these final environmental actions.

DATES: By this notice, FTA is advising the public of final agency actions subject to 23 U.S.C. 139(l). A claim seeking judicial review of FTA actions announced herein for the listed public transportation project will be barred unless the claim is filed on or before November 9, 2020.

FOR FURTHER INFORMATION CONTACT: Nancy-Ellen Zusman, Assistant Chief Counsel, Office of Chief Counsel, (312) 353-2577 or Saadat Khan, Environmental Protection Specialist, Office of Environmental Programs, (202) 366-9647. FTA is located at 1200 New Jersey Avenue SE, Washington, DC 20590. Office hours are from 9:00 a.m. to 5:00 p.m., Monday through Friday, except Federal holidays.

SUPPLEMENTARY INFORMATION: Notice is hereby given that FTA has taken final agency actions by issuing certain approvals for the public transportation project listed below. The actions on the project, as well as the laws under which such actions were taken, are described in the documentation issued in connection with the project to comply with the National Environmental Policy Act (NEPA) and in other documents in the FTA environmental project file for the project. Interested parties may contact either the project sponsor or the relevant FTA Regional Office for more information. Contact information for FTA's Regional Offices may be found at https://www.fta.dot.gov.

This notice applies to all FTA decisions on the listed project as of the issuance date of this notice and all laws under which such actions were taken, including, but not limited to, NEPA [42 U.S.C. 4321-4375], Section 4(f) requirements [23 U.S.C. 138, 49 U.S.C. 303], Section 106 of the National Historic Preservation Act [54 U.S.C. 306108] and the Clean Air Act [42 U.S.C. 7401-7671q]. This notice does not, however, alter or extend the limitation period for challenges of project decisions subject to previous notices published in the Federal Register.

The project and actions that are the subject of this notice follow: Project name and location: West Valley Corridor Connector (WVCC) Project, City of Pomona (Los Angeles County) and Cities of Montclair, Ontario, Rancho Cucamonga, and Fontana (San Bernardino County), California. Project Sponsor: San Bernardino County Transportation Authority (SBCTA). Project description: The WVCC project involves construction of a 35-mile-long bus rapid transit (BRT) that would decrease travel times and improve the existing public transit system within the corridor. The project includes up to 60 station platforms at 33 locations/major intersections and associated improvements. A new operation and maintenance facility for light maintenance activities will be constructed. The project will be constructed in two phases: WVCC—Phase I will include the 19-mile-long Milliken Alignment, from the eastern boundary limit in Pomona to Victoria Gardens in Rancho Cucamonga; WVCC—Phase II will include the 16-mile-long Haven Alignment, from Ontario International Airport to Kaiser Permanente Medical Center in Fontana. Final agency action: Section 4(f) de minimis impact determination; Section 106 No Adverse Effect Determination dated March 19, 2020; The WVCC Finding of No Significant Impact (FONSI) dated May 12, 2020. Supporting Documentation: The WVCC Environmental Assessment (EA) dated June 14, 2019. The WVCC FONSI, EA and associated documents can be viewed and downloaded from: https://www.gosbcta.com/project/west-valley-connector-brt/.

Authority: 23 U.S.C. 139(l)(1).

Mark A. Ferroni,
Deputy Associate Administrator for Planning and Environment.

[FR Doc. 2020-12747 Filed 6-11-20; 8:45 am]

BILLING CODE P